DEPARTMENT OF HOUSING AND URBAN DEVELOPMENT

[Docket No. FR-5681-N-12]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202)- 401-0787; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040, Washington, DC 20405, (202) 501-0084; NASA: Mr. Frank T. Bellinger, Facilities Engineering Division, National Aeronautics & Space Administration, Code JX, Washington, DC 20546, (202)-358-1124; VA: Ms. Jessica L. Kaplan, Real Property Service, Department of Veterans Affairs, 810 Vermont Avenue NW. (003C1E), Washington, DC 20420, (202)-461-8234; (These are not toll-free numbers).

Dated: March 14, 2013.
Mark Johnston,
Deputy Assistant Secretary for Special Needs.

TITLE V, FEDERAL SURPLUS PROPERTY PROGRAM FEDERAL REGISTER REPORT FOR 03/22/2013

Suitable/Available Properties

Building

California

Valley Resident Office

2021 Jefferson Blvd.

W. Sacramento CA 95691

Landholding Agency: COE

Property Number: 31201310008

Status: Unutilized

Comments: 3,840 sf.; 9 mons. vacant; poor conditions; restricted area; transferee will need an escort to access property

Connecticut

Garage

Colebrook River Lake

Riverton CT 06065

Landholding Agency: COE

Property Number: 31201240005

Status: Underutilized

Comments: Off-site removal only; 635 sf.; storage; major renovations needed

Kansas

Sun Dance Park

31051 Melvern Lake Pkwy

Melvern KS 66510

Landholding Agency: COE

Property Number: 31201220011

Status: Underutilized

Comments: 133 sf.; bathroom; poor to fair conditions; fairly significant deterioration on interior wood frame in several places

Building 81002

Turkey Point Park

Osage City KS

Landholding Agency: COE

Property Number: 31201310001

Status: Unutilized

Comments: 89 sf.; park office; 7 mons. vacant; deteriorated

Wilson Lake

4860 Outlet Blvd.

Sylvan Grove KS 67481

Landholding Agency: COE

Property Number: 31201310002

Status: Unutilized

Comments: 280 sf.; park shower bldg.; 48 mons. vacant; deteriorated

Missouri

W. Hwy Vault Toilet

US Army COE

Smithville MO 64089

Landholding Agency: COE

Property Number: 31201220004

Status: Underutilized

Comments: Available for off-site removal; 100 sf.; current use: toilet; need extensive repairs

St. Louis District

Wappapello Lake Project Office

Wappapello MO 63966

Landholding Agency: COE

Property Number: 31201220014

Status: Unutilized

Comments: 376.69 sf.; comfort station; significant structural issues; need repairs

New Mexico

Abiquiu Lake Project Office

USACE

Abiquiu NM

Landholding Agency: COE

Property Number: 31201240004

Status: Unutilized

Comments: Off-site removal only; 165 sf.; vault-type comfort station; repairs needed

New York

Building 606

1 Amsterdam Rd.

Scotia NY 12301

Landholding Agency: GSA

Property Number: 54201310009

Status: Surplus

GSA Number: NY-0975

Directions: Previously reported by Navy w/assigned property number 7720120019

Comments: 137,409 sf.; Navy Exchange, supermarket, & storage; 24 mons. vacant; mold, asbestos, & lead-based paint, significant renovations needed

JJP Bronx VA Medical Ctr.

903 Avenue St. John

Bronx NY 10455

Landholding Agency: VA

Property Number: 97201310002

Status: Unutilized

Comments: UPDATED INFO. 700-1,000 usable square feet. residential; significant renovations needed; contact VA Real Property Service (Amanda.Wehner@va.gov; (202) 632-5676) for more info.

North Carolina

Well House

Property ID # BEJ-17942

B.E. Jordon Dam& Lake NC

Landholding Agency: COE

Property Number: 31201240002

Status: Unutilized

Comments: Vacant; poor conditions; need repairs

Oklahoma

Robert S. Kerr Lake

HC 61 Box 238

Sallisaw OK 74955

Landholding Agency: COE

Property Number: 31201220005

Status: Unutilized

Comments: Off-site removal only; 704 sf.; current use: bathroom; needs repairs

5 Buildings

RS Kerr Lake

Sallisaw OK 74955

Landholding Agency: COE

Property Number: 31201230002

Status: Underutilized

Directions: 42863, 42857,42858,42859,42860

Comments: Off-site removal only; 264 sf.; use: vault toilet; excessive vegetation; severe damage from vandals

Oologah Lake

Spencer Creek

Oologah OK 74053

Landholding Agency: COE

Property Number: 31201240003

Status: Underutilized

Comments: Off-site removal only; 576 sf.; picnic shelter; repairs needed

Oregon

Ochoco Nat'l Forest

33700 NE Ochoco Ranger Station Rd.

Prineville OR 97754

Landholding Agency: Agriculture

Property Number: 15201310019

Status: Unutilized

Comments: 2,432 sf.; office; fair conditions; repairs needed; 14 mons. vacant

South Carolina

Observation Tower

J. Storm Thurmond Lake & Dam

Clarks Hill SC 29821

Landholding Agency: COE

Property Number: 31201310004

Status: Unutilized

Comments: 64 sf.; poor conditions; vacant

South Dakota

Big Bend Project

33573 N. Shore Rd.

Chamberlin SD 57325

Landholding Agency: COE

Property Number: 31201240001

Status: Unutilized

Comments: Off-site removal only; 221 sf. (w/porch), office; poor conditions; severe mold

Texas

Restroom

2000 FM 2271

Belton TX 76513

Landholding Agency: COE

Property Number: 31201240006

Status: Unutilized

Comments: Off-site removal only; 850 sf.; 12 mons. vacant; poor conditions

Virginia

Vault Toilet

1930 Mays Chapel Rd.

Meckenlenburg VA 23917

Landholding Agency: COE

Property Number: 31201310005

Status: Unutilized

Directions: JHK-26740

Comments: Off-site removal only; 25.02 sf.; vacant; poor conditions

Vault Toilet

1930 Mays Chapel Rd.

Meckenlenburg VA 23917

Landholding Agency: COE

Property Number: 31201310006

Status: Unutilized

Directions: JHK-26741

Comments: Off-site removal only; 25.02 sf.; vacant; poor conditions

Vault Toilet

1930 Mays Chapel Rd.

Meckenlenburg VA 23917

Landholding Agency: COE

Property Number: 31201310007

Status: Unutilized

Directions: JHK-26739

Comments: Off-site removal only; 25.05 sf.; vacant; poor conditions;

Washington

Residence, Central Ferry Park

1001 Little Goose Dam Rd.

Dayton WA 99328

Landholding Agency: COE

Property Number: 31201220008

Status: Unutilized

Comments: Off-site removal only; 1,500 sf.; residence; good conditions; an access easement is required through a real estate instrument

Restroom, Central Ferry Park

1001 Little Goose Dam Rd.

Dayton WA 99328

Landholding Agency: COE

Property Number: 31201220009

Status: Unutilized

Comments: Off-site removal only; 2,457 sf.; restroom; good conditions; an access easement is required through a real estate instrument

Restroom, Central Ferry Park

1001 Little Goose Dam Rd.

Dayton WA 99328

Landholding Agency: COE

Property Number: 31201220010

Status: Unutilized

Directions: Boat Ramp Area

Comments: Off-site removal only; 420 sf.; restroom; good conditions; an access easement is required through a real estate instrument

Restroom, Central Ferry Park

1001 Little Goose Dam Rd.

Dayton WA 99328

Landholding Agency: COE

Property Number: 31201220012

Status: Unutilized

Comments: Off-site removal only; 660 sf.; restroom; an access easement is required through a real estate instrument

Restroom, Illia Dunes

1001 Little Goose Dam Rd.

Dayton WA 99328

Landholding Agency: COE

Property Number: 31201220013

Status: Unutilized

Comments: Off-site removal only; 220 sf.; restroom

Mill Creek Project Office

3211 Reservoir Rd.

Walla Walla WA 99362

Landholding Agency: COE

Property Number: 31201310003

Status: Unutilized

Comments: Off-site removal only; less than 900 sf.; office; moderate conditions; asbestos & lead base paint

Land

Oklahoma

Keystone Lake

USACE Tract No. 2424

Keystone OK

Landholding Agency: COE

Property Number: 31201220007

Status: Excess

Comments: .013 acres; current use: civil works land; contact COE for further conditions

Ft. Gibson Lake

Ft. Gibson

Wagoner OK

Landholding Agency: COE

Property Number: 31201310009

Status: Unutilized

Directions: Tract 1240

Comments: 0.0329 acres; recreation; poor conditions

Unsuitable Properties

Building

California

Trailers (4)

4800 Oak Grove Dr.

Pasadena CA 91109

Landholding Agency: NASA

Property Number: 71201310002

Status: Underutilized

Directions: T1701-T1704

Comments: Secured area; public access denied & no alternative method to gain access w/out compromising nat'l security

Reasons: Secured Area

Land

Oklahoma

Fort Gibson Lake-Tract 1251A

Lake Ft. Gibson

Wagoner OK

Landholding Agency: COE

Property Number: 31201220015

Status: Unutilized

Comments: Landlocked; no established rights or means of entry; crossing onto privately-owned property is prohibited by owners

Reasons: Not accessible by road

[FR Doc. 2013-06293 Filed 3-21-13; 8:45 am]

BILLING CODE 4210-67-P